DEPARTMENT OF COMMERCE

National Oceanic and Atmospheric Administration

Federal Consistency Appeals by Weaver's Cove Energy, LLC, and Mill River Pipeline, LLC

AGENCY: National Oceanic and Atmospheric Administration (NOAA), Department of Commerce (Commerce).

ACTION: Notice of closure—administrative appeal decision records.

SUMMARY: This announcement provides notice that the decision records for two administrative appeals filed with the Department of Commerce by Weaver's Cove Energy, LLC, and Mill River Pipeline, LLC, have been closed.

DATES: The decision records for these two administrative appeals were closed on May 5, 2008.

ADDRESSES: Materials from the appeal records are available at the Internet site http://www.ogc.doc.gov/czma.htm and at the Office of General Counsel for Ocean Services, National Oceanic and Atmospheric Administration, U.S. Department of Commerce, 1305 East-West Highway, Silver Spring, MD 20910.

FOR FURTHER INFORMATION CONTACT: Brett Grosko, Attorney-Advisor, Office of General Counsel for Ocean Services, National Oceanic and Atmospheric Administration, U.S. Department of Commerce, via e-mail at Brett.Grosko@noaa.gov, or 301-713-7384.

SUPPLEMENTARY INFORMATION: On August 27, 2007, Weaver's Cove Energy, LLC, and Mill River Pipeline, LLC, separately filed notices of appeal with the Secretary of Commerce (Secretary) pursuant to section 307(c)(3)(A) of the Coastal Zone Management Act of 1972 (CZMA), as amended, 16 U.S.C. 1451 et seq., and the Department of Commerce's implementing regulations, 15 CFR part 930, subpart H. These appeals were taken from objections by the Commonwealth of Massachusetts to the issuance of certain federal licenses necessary to construct and operate a liquefied natural gas terminal and two associated natural gas pipelines, to be located in Fall River, Massachusetts. Both appeals request the Secretary override the State's objections on grounds the proposed project allegedly is consistent with the objectives of the CZMA, and necessary in the interest of national security. Decisions for CZMA administrative appeals are based on information contained in the decision record for the appeal. These two appeals have been consolidated for decision.

Under the CZMA, the decision record for an appeal must close no later than 220 days after notice of the appeal was first published in the Federal Register. 16 U.S.C. 1465. Notice of closure must be published in the Federal Register. Consistent with this requirement, notice is hereby provided that the decision records for these appeals were closed on May 5, 2008. No further information, briefs or comments will be considered in deciding these appeals.

A final decision on these appeals must be issued no later than 60 days after the date of the publication of this notice. 16 U.S.C. 1465(c)(1). The deadline may be extended by publishing (within the 60-day period) a subsequent notice explaining why a decision cannot be issued within that time frame. 16 U.S.C. 1465(c)(1). In this event, a final decision must be issued no later than 15 days after the date of publication of the subsequent notice. 16 U.S.C. 1465(c)(2).

Additional information about these appeals and the CZMA appeals process is available from the Department of Commerce CZMA appeals Web site: http://www.ogc.doc.gov/czma.htm.

[Federal Domestic Assistance Catalog No. 11.419 Coastal Zone Management Program Assistance.]

Dated: May 1, 2008.
Joel La Bissonniere,
Assistant General Counsel for Ocean Services.

[FR Doc. E8-10012 Filed 5-6-08; 8:45 am]

BILLING CODE 3510-08-P